DEPARTMENT OF HOMELAND SECURITY

Coast Guard

[USCG-2006-24627]

Finding of No Significant Impact for the Installation and Operation of the Integrated Anti-Swimmer System

AGENCY: Coast Guard, DHS.

ACTION: Notice of availability.

SUMMARY: The U.S. Coast Guard (USCG) is issuing this notice to advise the public that it has issued a Finding of No Significant Impact (FONSI) for the Installation and Operation of the Integrated Anti-Swimmer System, effective 4 April 2006, for the Final Environmental Assessment that evaluated the proposed action. This notice is issued in accordance with the National Environmental Policy Act (NEPA) (42 U.S.C. 4371 et seq.) and its implementing regulations 40 CFR 1500 through 1508.

ADDRESSES: Copies of the FONSI are available for review at the following locations and by the following methods:

(1) Electronic request to Mr. Kenneth McDaniel at KMcdaniel@comdt.uscg.mil.

(2) Delivery request to Commandant, United States Coast Guard, Office of Security and Defense Operations (G-RPD), 2100 Second St., SW., Rm. 3121, Washington, DC 20593, Attn: K. McDaniel.

FOR FURTHER INFORMATION CONTACT: Commandant, United States Coast Guard, Office of Security and Defense Operations (G-RPD), 2100 Second St., SW., Rm. 3121, Washington, DC 20593, Attn: K. McDaniel.

SUPPLEMENTARY INFORMATION: The USCG has completed and issued its Finding of No Significant Impact (FONSI) for the Installation and Operation of the Integrated Anti-Swimmer System (IAS). The FONSI sets out the USCG's consideration of environmental and other factors and is based on the Final Programmatic Environmental Assessment (PEA) for the Installation and Operation of the IAS. The FONSI records the USCG's determination that the Proposed Action has no significant impact on the environment. Therefore, preparation of an environmental impact statement is not necessary.

The PEA and FONSI were prepared in accordance with the National Environmental Policy Act (NEPA) of 1969 (Section 102(2)(c)) and its implementing regulations at Title 40 Code of Federal Regulations, Parts 1500 through 1508. The Coast Guard evaluated the environmental and socioeconomic impacts of the Proposed Action in the PEA.

The PEA presents the purpose and need for the project, identifies and examines reasonable alternatives and assesses their potential impact to the environment. The PEA's analysis of alternatives to the proposed project includes the No-Action Alternative and assesses potential impacts associated with the proposed installation and operation of the IAS.

Mitigation measures intended to minimize potential environmental impacts are identified in the FONSI and would become part of the IAS training and deployment standard operating procedures. There are no environmental impacts associated with the preferred alternative that cannot be mitigated below significance thresholds described in the PEA.

Dated: May 1, 2006.
S.M. Burke,
Commander, U.S. Coast Guard, Deputy Chief, Office of Security and Defense Operations.

[FR Doc. E6-6874 Filed 5-4-06; 8:45 am]

BILLING CODE 4910-15-P